ENVIRONMENTAL PROTECTION AGENCY

[EPA-HQ-ORD-2005-0504; FRL-8047-8]

Notice of Expert Peer Review Meeting on the Nanotechnology White Paper External Review Draft

AGENCY: Environmental Protection Agency.

ACTION: Notice of meeting.

SUMMARY: The U.S. Environmental Protection Agency (EPA) is announcing that Versar, Inc., an EPA contractor for external peer review, will convene a panel of experts and will organize and conduct an independent expert external peer review meeting to review the draft document entitled “Nanotechnology White Paper External Review Draft.” The draft document was prepared by the Nanotechnology Workgroup of EPA's Science Policy Council and has recently undergone public review and comment. Versar, Inc. invites the public to register to attend this meeting as observers. In addition, Versar, Inc. invites the public to give oral comments or provide written comments at the external peer review meeting regarding the draft document under review. The panel will review the draft document and consider public comments received in the official public docket for this activity under docket ID number EPA-HQ-ORD-2005-0504 as well as comments made by the public at the meeting. The draft document and peer review charge are available through EPA's Science Inventory at http://cfpub.epa.gov/si/ and at http://www.epa.gov/osa/nanotech.htm. In preparing a final document, EPA will consider Versar, Inc.'s report of the comments and recommendations from the external peer-review meeting, as well as public comments. EPA plans to issue a final white paper on nanotechnology in mid-2006.

This notice announces the independent expert external peer review meeting location and dates, and how to participate in the meeting.

DATES: Versar, Inc. will hold the independent expert external peer review meeting from April 19, 2006 to April 20, 2006. The meeting is scheduled to begin at 9 a.m. and end at 5 p.m., Eastern Time, on both days. The public may attend the expert external peer review meeting. Members of the public in attendance will be allowed to make brief (no longer than 5 minutes) oral statements during the meeting's public comment period.

ADDRESSES: The independent expert external peer review meeting will be held at the Marriott at Metro Center, located at 775 12th Street, NW., Washington, DC 20005; telephone 202-737-2200.

How Can I Request To Participate in This Meeting?

Versar, Inc., an EPA contractor, is organizing, convening, and conducting the expert peer review meeting. To attend the meeting, register by April 15, 2006, by visiting http://epa.versar.com/nanotech. You may also contact Mr. Andrew Oravetz of Versar, Inc., 6850 Versar Center, Springfield, VA, 22151, at 703-642-6832 or via e-mail at Aoravetz@versar.com, or by sending a facsimile to 703-642-6954 to his attention. You will be asked for your name, contact information, whom you represent, and your title. Please indicate if you intend to make an oral statement during the public comment period at the meeting.

FOR FURTHER INFORMATION CONTACT: Questions regarding logistics for the external peer review meeting should be directed to Mr. Andrew Oravetz, Versar, Inc., 6850 Versar Center, Springfield, VA, 22151; telephone: 703-642-6832; facsimile: 703-642-6954; or via e-mail at Aoravetz@versar.com. If you have questions about the draft document, please contact Dr. Kathryn Gallagher, Office of the Science Advisor, Mail Code 8105-R, Environmental Protection Agency, 1200 Pennsylvania Avenue, NW., Washington, DC 20460; telephone number: (202) 564-1398; fax number: (202) 564-2070, e-mail: Gallagher.kathryn@epa.gov.

SUPPLEMENTARY INFORMATION: EPA is submitting the Nanotechnology White Paper External Review Draft for independent, external peer review. On December 21, 2006, the draft document was announced in the Federal Register (70 FR 75812) and made available for a public comment period that ended January 31, 2006. The comment period was subsequently extended to March 1, 2006 (71 FR 6774, February 9, 2006). Public comments received in the docket will be shared with the external peer review panel for their consideration. Although EPA is under no obligation to do so, EPA may consider comments received after the close of the comment period. The public release of this draft document is solely for the purpose of seeking public comment and peer review. This draft white paper does not represent and should not be construed to represent any EPA policy, viewpoint, or determination.

The Nanotechnology White Paper External Review Draft identifies data gaps that need to be filled and recommends research for both environmental applications and implications of nanotechnology that would inform the appropriate regulatory safeguards for nanotechnology. The draft white paper describes the technology and provides a discussion of potential environmental benefits of nanotechnology. Risk management issues and the Agency's statutory mandates are outlined, following an extensive discussion of risk assessment issues. The draft white paper concludes with recommendations on next steps for addressing science policy issues and research needs. Supplemental information is provided in a number of appendices. Following the expert external peer review, EPA plans to issue a final white paper on nanotechnology in mid-2006.

Dated: March 15, 2006.
William H. Farland,
Chief Scientist, Office of the Science Advisor.

[FR Doc. E6-4066 Filed 3-20-06; 8:45 am]

BILLING CODE 6560-50-P